EXPORT-IMPORT BANK

[Public Notice 2010-0035]

Agency Information Collection Activities: Final Collection; Comment Request

AGENCY: Export-Import Bank of the U.S.

ACTION: Submission for OMB Review and Comments Request.

Form Title: EIB 10-01A Long Term Transaction Questionnaire, EIB 10-01B Oil and Gas Company Questionnaire.

SUMMARY: The Export-Import Bank of the United States (“Ex-Im Bank”) is the official export credit agency of the United States. Its mission is to create and sustain U.S. jobs by financing U.S. exports through direct loans, guarantees, insurance and working capital credit. The Consolidated Appropriations Act of 2010 (Pub. L. 111-117) (“the Act”), enacted December 16, 2009, provides for Ex-Im Bank's FY2010 budget authorization. As part of the U.S. government's efforts to strengthen sanctions against Iran, the Act contains language prohibiting Ex-Im Bank from:

Authoriz[ing] any new guarantee, insurance, or extension of credit for any project controlled by an energy producer or refiner that continues to: (A) provide Iran with significant refined petroleum resources; (B) materially contribute to Iran's capability to import refined petroleum resources; or (C) allow Iran to maintain or expand, in any material respect, its domestic production of refined petroleum resources, including any assistance in refinery construction, modernization, or repair.

See Sec. 7043 of the Act.

The Act is effectively immediately and applies to all authorizations Ex-Im Bank may make with FY2010 funds.

DATES: Comments should be received on or before October 18, 2010 to be assured of consideration.

ADRESSES: Comments maybe submitted electronically on http://www.regulations.gov or by mail to Faisal Siddiqui, Export-Import Bank of the United States, 811 Vermont Ave., NW. Washington, DC 20571.

SUPPLEMENTARY INFORMATION: Titles and Form Number: EIB 10-01A Long Term Transaction Questionnaire,

EIB 10-01B Oil and Gas Company Questionnaire.

OMB Number: 3048-0030.

Type of Review: Regular.

Need and Use: This is a new collection to ensure compliance with the Consolidated Appropriations Act of 2010 (Pub. L. 111-117), enacted December 16, 2009.

Sharon A. Whitt,
Agency Clearance Officer.

[FR Doc. 2010-20389 Filed 8-17-10; 8:45 am]

BILLING CODE 6690-01-P